DEPARTMENT OF COMMERCE

Census Bureau

Advance Monthly Retail Trade and Food Services Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 5, 2003.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to: Scott Scheleur, U. S. Census Bureau, Room 2626-FOB 3, Washington, DC 20233-6500, (301) 763-7128.

SUPPLEMENTARY INFORMATION:

I. Abstract

The Advance Monthly Retail Sales Survey (MARTS) provides an early indication of monthly retail sales at the United States level. MARTS also provides estimates of monthly sales of food service establishments and drinking places. The Bureau of Economic Analysis (BEA) uses the data as critical inputs to the calculation of Gross Domestic Product (GDP). Policymakers such as the Federal Reserve Board need to have the most timely estimates in order to anticipate economic trends and act accordingly. The Council of Economic Advisors (CEA) and other government agencies and businesses use the data to formulate economic policy and make decisions. These estimates have a high BEA priority because of their timeliness. There would be approximately a one month delay in the availability of these data if this survey were not conducted. Data are collected monthly from small-size, medium-size, and large-size businesses which are selected using a stratified random sampling procedure. The MARTS sample is re-selected periodically, generally at approximately two-year intervals. Small-size and medium-size retailers are requested to participate for those two years, after which they are replaced with new panel respondents. Smaller firms have less of a chance for selection due to our sampling procedure. Firms canvassed in this survey are not required to maintain additional records and carefully prepared estimates are acceptable if book figures are not available. There is no change in response burden.

II. Method of Collection

We will collect this information by mail, FAX, and telephone follow-up.

III. Data

OMB Number: 0607-0104.

Form Number: SM-44(00)A, SM-44(00)AE, SM-44(00)AS, and SM-72(00)A.

Type of Review: Regular Submission.

Affected Public: Retail Businesses.

Estimated Number of Respondents: 4,500.

Estimated time Per Response: 5 minutes.

Estimated Total Annual Burden Hours: 4,500.

Estimated Total Annual Cost: The cost to the respondent is estimated to be $98,190 based on the median hourly salary of $21.82 for accountants and auditors. (U. S. Department of Labor—Bureau of Labor Statistics—Occupational Employment Statistics 2001, where $21.82 represents the median hourly wage of the full-time wage and salary earnings of accountants and auditors) http://www.bls.gov/oes/2001/oes_13Bu.htm

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 1, 2003.
Madeleine Clayton,
Office of the Chief Information Officer.

[FR Doc. 03-14229 Filed 6-5-03; 8:45 am]

BILLING CODE 3510-07-P